DEPARTMENT OF AGRICULTURE

Agricultural Marketing Service

[Docket Number TM-03-06]

National Organic Program; Nominations for Peer Review Panel Technical Expert

AGENCY: Agricultural Marketing Service, USDA.

ACTION: Notice.

SUMMARY: The Organic Foods Production Act (Act) of 1990, as amended (7 U.S.C. 6516) permits the Department of Agriculture's (USDA) National Organic Program (NOP) to establish a peer review panel to evaluate the NOP's accreditation program. This notice calls for nominations for a technical expert to serve on the peer review panel.

DATES: Written nominations, with resumes, must be postmarked on or before September 12, 2003.

ADDRESSES: Nominations should be sent to Ms. Katherine E. Benham, Agricultural Marketing Information Assistant, USDA-AMS-TMP-NOP, 1400 Independence Avenue, SW., Room 4008-S, Ag Stop 0268, Washington, DC 20250-0268, and to Mr. Reinaldo B. Figueiredo, Program Director, Conformity Assessment, American National Standards Institute, 1819 L Street NW., 6th Floor, Washington DC 20036.

FOR FURTHER INFORMATION CONTACT: Keith Jones, Director, Program Development, National Organic Program, 1400 Independence Ave., SW., Room 4008-S, Ag Stop 0268, Washington, DC 20250-0268; Telephone: (202) 720-3252; Fax: (202) 205-7808; e-mail: keith.jones@usda.gov.

SUPPLEMENTARY INFORMATION: The Act permits the Administrator of the Agricultural Marketing Service to establish a peer review panel. Under the Act's implementing regulations (7 CFR 205.509) the peer review panel is to be composed of not less than 3 members who shall evaluate the National Organic Program's adherence to the accreditation procedures in subpart F of the regulations and International Organization for Standards/International Electro-technical Commission (ISO/IEC) Guide 61, General requirements for assessment and accreditation of certification/registration bodies, and the National Organic Program's accreditation decisions. This analysis is to be accomplished through the review of accreditation procedures, document review and site evaluation reports, and accreditation decision documents or documentation. The peer review panel is required to report its findings, in writing, to the NOP Program Manager.

The NOP has selected the American National Standards Institute (ANSI) to perform an assessment using the accreditation procedures at 7 CFR 205.500-205.510 and ISO/IEC Guide 61. In addition to the regulations and guidelines, ANSI's assessment method will utilize ISO 19011, Guidelines for quality and/or environmental management system audit and the International Accreditation Federation (IAF) policies and procedures for a multilateral recognition arrangement on the level of accreditation bodies and on the level of regional groups (Issue 3—Version 4).

The ANSI was selected by the NOP to perform this peer review assessment because of its world-wide credibility, knowledgeable and professional staff and performance of accreditation activities similar in size and scope to those undertaken by the NOP. ANSI has accredited 36 product certification programs for a variety of scopes and 2 personnel certification bodies in the U.S. and abroad. In addition, ANSI is the sole U.S. representative and dues-paying member of the International Organization for Standardization (ISO), and, via the U.S. National Committee (USNC), the International Electro-technical Commission (IEC). Further, ANSI is a member of the International Accreditation Forum (IAF), and the sole U.S. accreditation body for product and personnel certifiers in this international forum. Finally, at the regional level, ANSI is a member of Inter-American Accreditation Cooperation (IAAC) and also Pacific Accreditation Cooperation (PAC). The ANSI Registrar Accreditation Board (RAB) National Accreditation Program (NAP) is the U.S. signatory to the IAF Multilateral Recognition Arrangement for Quality and Environment Management Systems.

Assessment Team and Time Requirements

The assessment team will consist of three individuals; (1) an ANSI provided lead assessor trained in ISO/IEC Guide 61, (2) an ANSI provided assessor trained in ISO/IEC Guide 61, and (3) a NOP technical expert.

The timetable for the assessment is expected to require 4 days for preparation for the assessment, 6 days for assessment at USDA's Washington headquarters, 3 days for witness assessments at offices of USDA accredited certification bodies and 3 days for completion of the post-evaluation report. Completion of this report will be the responsibility of the lead assessor. The assessment process is expected to begin 60 days after the publication of this notice.

Minimum Skills and Experience Requirements

Candidates for the technical expert position must have demonstrable experience in working in team environments, possess excellent verbal and written communication skills (including use of electronic document formats), and demonstrate the ability to work under pressure and meet strict deadlines. Candidates must have demonstrable knowledge of organic production and handling methods and certification procedures. Preferred experience includes demonstrable knowledge of the NOP regulations (7 CFR 205 et seq.), ISO/IEC Guide 61 and ISO/IEC Guide 65. An understanding of how the ISO/IEC documents apply to public institutions is also preferred.

Candidates should submit their qualifications in a resume or curriculum vita format along with two examples of technical writing. In addition to this information, candidates should submit, if applicable, a “declaration of interests” list. This list should state all direct commercial, financial, consulting, family, or personal relationships that currently exist or have existed during the past 12 months. The technical expert will be required to recuse him/herself from the review of files of organizations with whom he/she have had direct interests in the preceding 12 months.

Compensation/Professional Conduct

The NOP technical expert will be a sub-contractor to ANSI. Therefore, compensation for the technical expert including hourly rates and travel and per diem reimbursement will be determined by direct negotiations between ANSI and the NOP technical expert. In addition to the requirement of recusing him/herself from the assessment process as discussed above, the technical expert will be required to abide by all ANSI requirements concerning professional conduct.

Dated: August 7, 2003.
A.J. Yates,
Administrator, Agricultural Marketing Service.

[FR Doc. 03-20539 Filed 8-12-03; 8:45 am]

BILLING CODE 3410-02-P